SECURITIES AND EXCHANGE COMMISSION

[Release No. 34-97156; File No. SR-MRX-2023-04]

Self-Regulatory Organizations; Nasdaq MRX, LLC; Notice of Withdrawal of Proposed Rule Change To Amend the Exchange Pricing Schedule at Options 7, Section 3

March 17, 2023.

On January 30, 2023, Nasdaq MRX, LLC (“MRX”) filed with the Securities and Exchange Commission (“Commission”), pursuant to Section 19(b)(1) of the Securities Exchange Act of 1934 ¹ and Rule 19b-4 thereunder,² a proposed rule change to amend the maker fees assessed to market makers. The proposed rule change was published for comment in the Federal Register on February 21, 2023.³

¹ 15 U.S.C. 78s(b)(1).

² 17 CFR 240.19b-4.

³ See Securities Exchange Act Release No. 96924 (February 14, 2023), 88 FR 10585.

On March 1, 2023, MRX withdrew the proposed rule change (SR-MRX-2023-04).

⁴ 17 CFR 200.30-3(a)(12).

For the Commission, by the Division of Trading and Markets, pursuant to delegated authority.⁴
J. Matthew DeLesDernier,
Deputy Secretary.

[FR Doc. 2023-05914 Filed 3-22-23; 8:45 am]

BILLING CODE 8011-01-P